NATIONAL LABOR RELATIONS BOARD

29 CFR Part 102

Revisions of Regulations Concerning Procedures for Electronic Filing; Correction

AGENCY: National Labor Relations Board.

ACTION: Final rule; correction.

SUMMARY: This document contains corrections to the Summary and Supplementary Information to the Final Rule that was published in the Federal Register on Friday, January 30, 2009 (74 FR 5618) regarding the Board's amendment of regulations concerning the procedures for filing documents with the Agency electronically.

DATES: This correction is effective upon publication in the Federal Register, and is applicable on January 30, 2009.

FOR FURTHER INFORMATION CONTACT: Lester A. Heltzer, Executive Secretary, 202-273-1067.

SUPPLEMENTARY INFORMATION:

Background

The Final Rule that is the subject of this document applies to Section 102.114 of the Agency's Rules and Regulations.

Need for Correction

As published, the SUMMARY and SUPPLEMENTARY INFORMATION to the Final Rule contains errors that may prove to be misleading and are in need of clarification.

Correction of Publication

Accordingly, the publication of the Final Rule, which was the subject of FR Doc. E9-1832, is corrected as follows:

1. On page 5619, column 1, in the Summary, the first paragraph of the column, last sentence in the paragraph the language “If electronic service is not possible, the other party shall be notified by telephone of the substance of the transmitted document and a copy of the document shall be served personally, or by registered mail, certified mail, regular mail, or private delivery service, or, with the consent of the other party, by facsimile transmission.” is corrected to read “If service by e-mail is not possible, the e-filing party must call the other party to notify them of the substance of the e-filed document and then serve a copy of the document, no later than the next day, by personal service, by overnight delivery service, or, with permission of the party receiving the document, by facsimile transmission.”

2. On page 5619, column 2, in the Supplementary Information, second paragraph of the column, fifth to eleventh lines of the paragraph, the language “the Board has now decided to allow parties to serve documents upon each other electronically, using e-mail, and to eliminate the expedited service requirements that have proven to be an unnecessary burden.” is corrected to read “the Board will now require that service of e-filed documents on other parties to a proceeding be effectuated by e-mail whenever possible.”

3. On page 5619, column 2, in the Supplementary Information, second paragraph of the column, third and fourth lines from the bottom of the paragraph, the language “followed by service by traditional means,” is corrected to read “followed by expedited service,”.

Dated: February 19, 2009.
Lester A. Heltzer,
Executive Secretary.

[FR Doc. E9-3892 Filed 2-23-09; 8:45 am]

BILLING CODE 7545-01-P